DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: National Mental Health Study Field Test—NEW

The Substance Abuse and Mental Health Services Administration (SAMHSA) plans to conduct a methodological field test for a potential national mental health study, provisionally named the National Mental Health Study (NMHS). The NMHS will use mental disorder assessments similar to studies last conducted over a decade ago in the National Comorbidity Survey-Replication among adults in 2001-2003 and the National Comorbidity Survey-Adolescent supplement among adolescents in 2001-2002. SAMHSA is collaborating with the National Institute of Mental Health (NIMH) to implement this field test.

The purpose of the NMHS Field Test is to test the procedures for a potential NMHS. The field test consists of three general components. The first component is sample selection using a household screener. The household screener will be used to determine eligibility of individuals and to make selections of individuals to recruit for participation in the second component. The second component consists of an in-person survey of the selected adult and adolescent respondents. The NMHS procedures vary somewhat between adults (aged 18 or older) and adolescents (aged 13 to 17). For all respondents, the in-person assessment (using either the adult or adolescent instrument) will be conducted primarily using audio computer-assisted self-interviewing (ACASI), with an emphasis on respondents completing the interview in a single session. In addition to the adolescent in-person assessment, parents/legal guardians of adolescent respondents will receive an additional web or phone interviews (the parent instrument). The final component consists of a telephone clinical reappraisal of a selected subgroup of adult and adolescent respondents, with an additional parent/guardian reporting for adolescents.

The NMHS field test will include 1,200 English speaking respondents—900 adults and 300 adolescents in the United States excluding Alaska and Hawaii. Approximately 210 parents/legal guardians of adolescent respondents will complete an additional parent interview. A subsample of approximately 150 adult and adolescent respondents and 50 parent respondents will complete a telephone-based clinical reappraisal follow-up interview. In addition, a subsample of completed screening and interview cases will be re-contacted for a brief telephone interview to verify that interviewers followed proper protocols when collecting data. The sample size supports testing of field procedures, sampling algorithms, and data processing steps. The total annual burden estimate is shown in the table below.

Annualized Estimated Burden for the National Mental Health Study Field Test
Instrument | Number of respondents | Responses per respondent | Total number of responses | Hours per response | Total burden hours
Household Screening | 2,331 | 1 | 2,331 | 0.083 | 193
Interview (including interviews with Adults and Adolescents) | 1,200 | 1 | 1,200 | 1.083 | 1,300
Parent Interview | 210 | 1 | 210 | 0.500 | 105
Clinical Interview | 150 | 1 | 150 | 1.000 | 150
Clinical Parent Interview | 50 | 1 | 50 | 0.500 | 25
Screening Verification | 142 | 1 | 142 | 0.067 | 10
Interview Verification | 180 | 1 | 180 | 0.067 | 12
Total | 4,263 |  | 4,263 |  | 1,795

Send comments to Summer King, SAMHSA Reports Clearance Officer, 5600 Fishers Lane, Room 15E57-B, Rockville, Maryland 20857, OR email a copy to summer.king@samhsa.hhs.gov. Written comments should be received by July 3, 2017.

Summer King,
Statistician.

[FR Doc. 2017-08993 Filed 5-3-17; 8:45 am]

BILLING CODE 4162-20-P